FEDERAL COMMUNICATIONS COMMISSION

[CC Docket No. 92-237; DA 22-950; FR ID 105108]

Meeting of the North American Numbering Council on October 4, 2022 is Cancelled

AGENCY: Federal Communications Commission.

ACTION: Notice.

SUMMARY: In this document, the Federal Communications Commission (Commission) announces the cancellation of the meeting of the North American Numbering Council (NANC) previously scheduled for Tuesday, October 4, 2022 from 2:00 p.m. until 4:00 p.m. EDT.

DATES: October 4, 2022.

ADDRESSES: The meeting was scheduled to be conducted via video conference and available to the public via the internet at http://www.fcc.gov/live.

FOR FURTHER INFORMATION CONTACT: You may also contact Christi Shewman, Designated Federal Officer, at christi.shewman@fcc.gov or 202-418-0646. More information about the NANC is available at https://www.fcc.gov/about-fcc/advisory-committees/general/north-american-numbering-council.

SUPPLEMENTARY INFORMATION: Consistent with the Federal Advisory Committee Act, 5 U.S.C. App. 2., the Commission announces that the meeting of the NANC previously scheduled for Tuesday, October 4, 2022 from 2:00 p.m. until 4:00 p.m. EDT has been cancelled. The Commission will announce the next meeting of the NANC at a later date. Notice of the next meeting will be published in the Federal Register. This is a summary of the Commission's document in CC Docket No. 92-237, DA 22-950, released September 13, 2022. (5 U.S.C. App 2 § 10(a)(2))

Federal Communications Commission.
Pamela Arluk,
Division Chief, Competition Policy Division, Wireline Competition Bureau.

[FR Doc. 2022-20708 Filed 9-23-22; 8:45 am]

BILLING CODE 6712-01-P